SOCIAL SECURITY ADMINISTRATION

[Docket No. SSA-2023-0041]

Privacy Act of 1974; System of Records

AGENCY: Social Security Administration (SSA).

ACTION: Notice of a modified system of records.

SUMMARY: In accordance with the Privacy Act of 1974, we are issuing public notice of our intent to modify our existing systems of records listed below under the System Name and Number section. This notice publishes details of the modified systems as set forth below under the caption, SUPPLEMENTARY INFORMATION.

DATES: The system of records notice (SORN) is applicable upon its publication in today's Federal Register, with the exception of the new routine use, which is effective February 5, 2024.

We invite public comment on the addition of the routine use. In accordance with the Privacy Act of 1974, we are providing the public a 30-day period in which to submit comments. Therefore, please submit any comments by February 5, 2024.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at https://www.regulations.gov. Please reference docket number SSA-2023-0041. All comments we receive will be available for public inspection at the above address, and we will post them to https://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: OGC.OPD.SORN@ssa.gov.

SUPPLEMENTARY INFORMATION: In the past, we disclosed information under our efficient administration routine use, from the systems of records listed below, to contractors, cooperative agreement awardees, Federal and State agencies, and Federal congressional support agencies for research and statistical activities. To distinguish disclosures that SSA makes specifically for research purposes, we are adding a new routine use in the systems of records listed below to reflect the following:

To contractors, cooperative agreement awardees, State agencies, Federal agencies, and Federal congressional support agencies for research and statistical activities that are designed to increase knowledge about present or alternative Social Security programs; are of importance to the Social Security program or the Social Security beneficiaries; or are for an epidemiological project that relates to the Social Security program or beneficiaries. We will disclose information under this routine use pursuant only to a written agreement with us.

SYSTEM NAME AND NUMBER:

System number and name | Routine uses | Federal Register citation No./ publication date
60-0044—National Disability Determination Services File | No. 13 | 71 FR 1810, 01/11/06.
|  | 72 FR 69723, 12/10/07.
|  | 83 FR 54969, 11/01/18.
60-0050—Completed Determination Record—Continuing Disability Determinations | No. 12 | 71 FR 1813, 01/11/06. 72 FR 69723, 12/10/07.
|  | 83 FR 54969, 11/01/18.
|  | 84 FR 17907, 04/26/19.
60-0059—Earnings Recording and Self-Employment Income System | No. 37 | 71 FR 1819, 01/11/06. 78 FR 40542, 07/05/13. 83 FR 54969, 11/01/18.
60-0090—Master Beneficiary Record | No. 43 | 71 FR 1826, 01/11/06. 72 FR 69723, 12/10/07.
|  | 78 FR 40542, 07/05/13.
|  | 83 FR 31250, 07/03/18.
|  | 83 FR 31251, 07/03/18.
|  | 83 FR 54969, 11/01/18.
60-0103—Supplemental Security Income Record and Special Veterans Benefits | No. 41 | 71 FR 1830, 01/11/06. 72 FR 69723, 12/10/07.
|  | 83 FR 31250, 07/03/18.
|  | 83 FR 31251, 07/03/18.
|  | 83 FR 54969, 11/01/18.
60-0159—Continuous Work History Sample (Statistics) | No. 7 | 47 FR 45643, 10/13/82.
|  | 65 FR 46997, 08/01/00.
|  | 72 FR 69723, 12/10/07.
|  | 83 FR 54969, 11/01/18.
60-0196—Disability Studies, Surveys, Records, and Extracts (Statistics) | No. 6 | 57 FR 55265, 11/24/92. 65 FR 46997, 08/01/00.
|  | 72 FR 69723, 12/10/07.
|  | 83 FR 54969, 11/01/18.
60-0199—Extramural Surveys (Statistics) | No. 6 | 71 FR 1835, 01/11/06.
|  | 72 FR 69723, 12/10/07.
|  | 83 FR 54969, 11/01/18.
60-0200—Retirement and Survivors Studies, Surveys, Records, and Extracts (Statistics) | No. 5 | 47 FR 45649, 10/13/82. 65 FR 46997, 08/01/00.
|  | 72 FR 69723, 12/10/07.
|  | 83 FR 54969, 11/01/18.
60-0202—Old Age, Survivors, and Disability Beneficiary and Worker Records and Extracts (Statistics) | No. 6 | 47 FR 45650, 10/13/82. 65 FR 46997, 08/01/00.
|  | 69 FR 11693, 03/11/04.
|  | 72 FR 69723, 12/10/07.
|  | 83 FR 54969, 11/01/18.
60-0203—Supplemental Security Income Studies, Surveys, Records, and Extracts (Statistics) | No. 5 | 47 FR 45651, 10/13/82. 65 FR 46997, 08/01/00.
|  | 72 FR 69723, 12/10/07.
|  | 83 FR 54969, 11/01/18.
60-0211—Beneficiary, Family, and Household Surveys, Records, and Extracts System (Statistics) | No. 6 | 48 FR 51693, 11/10/83. 65 FR 46997, 08/01/00.
|  | 69 FR 11693, 03/11/04.
|  | 72 FR 69723, 12/10/07.
|  | 83 FR 54969, 11/01/18.
60-0221—Vocational Rehabilitation Reimbursement Case Processing System | No. 12 | 71 FR 1840, 01/11/06. 72 FR 69723, 12/10/07. 83 FR 54969, 11/01/18.
60-0255—Plans for Achieving Self-Support (PASS) Management Information System | No. 11 | 71 FR 1867, 01/11/06. 72 FR 69723, 12/10/07. 83 FR 54969, 11/01/18.
60-0295—Ticket-to-Work and Self-Sufficiency Program Payment Database | No. 10 | 66 FR 17985, 04/04/01. 72 FR 69723, 12/10/07. 83 FR 54969, 11/01/18.
60-0300—Ticket-to-Work Program Manager (PM) Management Information System | No. 10 | 66 FR 32656, 06/15/01. 72 FR 69723, 12/10/07.
|  | 83 FR 54969, 11/01/18.
60-0330—eWork | No. 12 | 68 FR 54037, 09/15/03.
|  | 72 FR 69723, 12/10/07.
|  | 83 FR 54969, 11/01/18.

We are not republishing the system of records notices in their entirety. Instead, we are republishing only the identification number; the system of records name; the number of the modified routine use; and the issue of the Federal Register in which the system of records notice was last published in full, including the subsequent modification to the system of records notice's publication date and page number.

SECURITY CLASSIFICATION:

Unclassified.

SYSTEM LOCATION:

SSA provides the address of the component and system manager responsible for each system in the Federal Register notices listed above.

SYSTEM MANAGER(S):

SSA provides the title, business address, and contact information of the agency official who is responsible for the system in the Federal Register notices listed above.

HISTORY:

SSA provides the citation to the last fully published Federal Register notice, as well as last subsequent modification notice to the system of records notices listed above.

In accordance with 5 U.S.C. 552a(r), we have provided a report to OMB and Congress on this modified system of records.

Matthew Ramsey,
Executive Director, Office of Privacy and Disclosure, Office of the General Counsel.

[FR Doc. 2024-00001 Filed 1-4-24; 8:45 am]

BILLING CODE 4191-02-P